EXPORT-IMPORT BANK

Intent To Conduct a Detailed Economic Impact Analysis

AGENCY: Export-Import Bank.

ACTION: Notice.

SUMMARY: Pursuant to the Charter of the Export-Import Bank of the United States, this notice is to inform the public that the Export-Import Bank of the United States has received an application for a $1.85 billion direct loan to support the export of approximately $1.8 billion in U.S. equipment and services to establish an integrated liquefied natural gas, or LNG, project in Mozambique. The U.S. exports will enable the facility to produce approximately 15.2 million metric tonnes per year of liquefied natural gas.

Available information indicates the Mozambique gas producer plans to sell the liquefied natural gas in the Asia-Pacific market (including China, Korea, Japan and India).

DATES: Comments are due 14 days from publication in the Federal Register.

ADDRESSES: Interested parties may submit comments on this transaction by email to economic.impact@exim.gov or by mail to Scott Condren, Export-Import Bank of the United States, 811 Vermont Avenue NW, Room 1261, Washington, DC 20571.

Scott Condren,
Policy Analysis.

[FR Doc. 2019-11950 Filed 6-6-19; 8:45 am]

BILLING CODE 6690-01-P